DEPARTMENT OF THE TREASURY

United States Mint

Notification of Citizens Coinage Advisory Committee Public Meeting—April 16, 2024 (Day One) and April 17, 2024 (Day Two)

ACTION: Notice of meeting.

Pursuant to United States Code, title 31, section 5135(b)(8)(C), the United States Mint announces the Citizens Coinage Advisory Committee (CCAC) public meeting scheduled for April 16-17, 2024.

FOR FURTHER INFORMATION CONTACT: Jennifer Warren, United States Mint Liaison to the CCAC; 801 9th Street NW; Washington, DC 20220; or call 202-354-7208.

SUPPLEMENTARY INFORMATION:

Date: April 16, 2024, and April 17, 2024.

Time: 10 a.m.-4 p.m. (EDT) (April 16, 2024) and 9 a.m.-3:30 p.m. (April 17, 2024).

Location: 2nd Floor Conference Rooms; United States Mint; 801 9th Street NW; Washington, DC 20220.

Subject: Review and discussion of obverse and reverse candidate designs for the Emmett Till and Mamie Till-Mobley Congressional Gold Medal (April 16, 2024); review and discussion of the reverse candidate design for the 2026 Native American $1 Coin (April 16, 2024); review and discussion of the obverse and reverse candidate designs for the 2025 American Liberty 24K Gold Coin and Silver Medal (April 16, 2024); review and discussion of the obverse and reverse candidate designs for the United States Marine Corps 250th Anniversary Commemorative Coin Program (April 17, 2024); review and discussion of the obverse and reverse candidate designs for the Joseph R. Biden Presidential Medal (April 17, 2024); review and discussion of the obverse and reverse candidate designs for the Janet Yellen Secretary of the Treasury Medal (April 17, 2024); and review and discussion of the obverse and reverse candidate designs for the Ventris C. Gibson Director of the Mint Medal (April 17, 2024).

Interested members of the public can either attend the meeting in person or may watch the meeting live stream on the United States Mint's YouTube Channel at https://www.youtube.com/user/usmint. To watch the meeting live, members of the public may click on the “April 16, 2024” and “April 17, 2024” icon under the Live Tab. If you will be attending in person, please contact Jennifer Warren (jennifer.warren@usmint.treas.gov) no later than April 8, 2024, to be placed on the list for entry into the Mint Headquarters Building.

Members of the public should call the CCAC HOTLINE at (202) 354-7502 for the latest updates on meeting time and access information.

The CCAC advises the Secretary of the Treasury on any theme or design proposals relating to circulating coinage, bullion coinage, Congressional Gold Medals, and national and other medals; advises the Secretary of the Treasury with regard to the events, persons, or places to be commemorated by the issuance of commemorative coins in each of the five calendar years succeeding the year in which a commemorative coin designation is made; and makes recommendations with respect to the mintage level for any commemorative coin recommended. Members of the public interested in attending the meeting in person will be admitted into the meeting room on a first-come, first-serve basis as space is limited. If you will be attending in person, please contact Jennifer Warren (Jennifer.warren@usmint.treas.gov) no later than April 8, 2024. In addition, all persons entering a United States Mint facility must adhere to building security protocols. This means they must consent to the search of their persons and objects in their possession while on government grounds and when they enter and leave the facility and prohibited from bringing into the facility weapons of any type, illegal drugs, drug paraphernalia, or contraband. The United States Mint Police Office conducting the search will evaluate whether an item may enter into or exit from a facility based upon Federal law, Treasury policy, United States Mint policy, and local operating procedures; and all prohibited and unauthorized items will be subject to confiscation and disposal. The public will need to fill out a background clearance form and will need the day of the meeting to provide a government id (e.g., driver's license) to enter the building.

For members of the public interested in watching on-line, this is a reminder that the remote access is for observation purposes only. Members of the public may submit matters for the CCAC's consideration by email to info@ccac.gov.

For Accommodation Request: If you require an accommodation to watch the CCAC meeting, please contact the Office of Equal Employment Opportunity by April 8, 2024. You may submit an email request to Reasonable.Accommodations@usmint.treas.gov or call 202-354-7260 or 1-888-646-8369 (TTY).

(Authority: 31 U.S.C. 5135(b)(8)(C))

Eric Anderson,
Executive Secretary, United States Mint.

[FR Doc. 2024-05788 Filed 3-18-24; 8:45 am]

BILLING CODE 4810-37-P